DEPARTMENT OF JUSTICE

Notice of Lodging of Proposed Settlement Agreement With Bankruptcy Court in Comprehensive Environmental Response, Compensation and Liability Act Cost Recovery Action

In accordance with the Departmental Policy, 28 CFR 50.7, notice is hereby given that a Settlement Agreement in In re General Ceramics, Inc., No. 99-33406 (RG) was lodged with the United States Bankruptcy Court for the District of New Jersey on May 14, 2001. This Settlement Agreement resolves certain claims of the United States against General Ceramics, Inc., under section 107(a) of the Comprehensive Environmental Response, Compensation and Liability Act (“CERCLA”), 42 U.S.C. 9607(a), for payment of response costs incurred and to be incurred at the Boarhead Farms Superfund Site located in Bridgeton Township, Pennsylvania. The Settlement Agreement requires General Ceramics, Inc. pay an allowed claim of $275,000 in full.

The Department of Justice will accept written comments on the proposed Settlement Agreement for seventeen (17) days from the date of publication of this notice. Please address comments to the Assistant Attorney General, Environment and Natural Resources Division, Department of Justice, PO Box 7611, Ben Franklin Station, Washington, DC 20044 and refer to In re General Ceramics, Inc., DOJ # 90-11-2-06036/1.

Copies of the proposed Settlement Agreement may be examined at the Office of the United States Attorney, District of New Jersey, 970 Broad Street, 7th Floor, Newark, NJ 07102, and at EPA Region III, 1650 Arch Street, Philadelphia, PA 19103. A copy of the proposed Settlement Agreement may be obtained by mail from the U.S. Department of Justice, Consent 7611, Washington, DC 20044-7611. When requesting a copy of the proposed Settlement Agreement, please enclose a check to cover the twenty-five cents per page reproduction costs payable to the “Consent Decree Library” in the amount of $2.00, and please reference In re General Ceramics, Inc., DOJ No. 90-11-2-06036/1.

Robert Brook,
Assistant Chief, Environmental Enforcement Section, Environment and Natural Resources Division, Department of Justice.

[FR Doc. 01-12793 Filed 5-21-01; 8:45 am]

BILLING CODE 4410-15-M